DEPARTMENT OF COMMERCE

International Trade Administration

United States Mexico Canada Agreement (USMCA), Article 10.12; Binational Panel Review: Notice of Completion of Panel Review

AGENCY: United States Section, USMCA Secretariat, International Trade Administration, Department of Commerce.

ACTION: Notice of completion of panel review.

SUMMARY: In accordance with Rules 82 and 84 of the USMCA Rules of Procedure for Article 10.12 (Binational Panel Review), the Certain Gypsum Board, Sheet, or Panel Originating in or Exported from the United States of America (Secretariat File Number: CDA-USA-2020-10.12-01) Panel Review was completed and the panelists were discharged from their duties effective July 28, 2022.

FOR FURTHER INFORMATION CONTACT: Vidya Desai, United States Secretary, NAFTA Secretariat, Room 2061, 1401 Constitution Avenue NW, Washington, DC 20230, 202-482-5438.

SUPPLEMENTARY INFORMATION: Article 10.12 of the USMCA provides a dispute settlement mechanism involving trade remedy determinations issued by the Government of the United States, the Government of Canada, and the Government of Mexico. Following a Request for Panel Review, a Binational Panel is composed to review the trade remedy determination being challenged. For the complete USMCA Rules of Procedure for Article 10.12 (Binational Panel Reviews), please see https://can-mex-usa-sec.org/secretariat/agreement-accord-acuerdo/usmca-aceum-tmec/rules-regles-reglas/article-article-articulo_10_12.aspx?lang=eng.

Dated: August 8, 2022.
Vidya Desai,
U.S. Secretary, USMCA Secretariat.

[FR Doc. 2022-17253 Filed 8-10-22; 8:45 am]

BILLING CODE 3510-GT-P